DEPARTMENT OF ENERGY

Federal Energy Regulatory Commission

[Docket No. EC04-135-000, et al.]

Allegheny Energy, Inc., et al.; Electric Rate and Corporate Filings

August 3, 2004.

The following filings have been made with the Commission. The filings are listed in ascending order within each docket classification.

1. Allegheny Energy, Inc.

2. Allegheny Energy Supply Company, LLC

[Docket No. EC04-135-000]

Take notice that on July 26, 2004, Allegheny Energy, Inc. (Allegheny) and Allegheny Energy Supply Company, LLC (AE Supply) (collective, Applicants) filed an application for disposition of jurisdictional facilities under section 203 of the Federal Power Act. Applicants request Commission approval to sell to Buckeye Power Generating, LLC (BPG) a wholly-owned subsidiary of Buckeye Power, Inc., and Ohio non-profit corporation, certain jurisdictional assets. The Applicants have requested privileged treatment of certain agreements submitted in support of the application.

Comment Date: 5 p.m. eastern standard time on August 16, 2004.

3. Virginia Electric and Power Company

Multitrade of Pitttsylvania County, L.P.

ESI Pittsylvania, Inc.

ESI Multitrade LP, Inc.

Energy Investors Fund, L.P.

Energy Investors Fund II, L.P.

[Docket No. EC04-139-000]

Take notice that on July 30, 2004, Virginia Electric and Power Company, (Dominion Virginia Power), Multitrade of Pittsylvania County, L.P. (Multitrade), ESI Pittsylvania, Inc., ESI Multritrade LP, Inc., Energy Investors Fund, L.P., and Energy Investors Fund II, L.P. (collectively, Applicants) submitted for filing, pursuant to section 203 of the Federal Power Act 16 U.S.C. 824b, and Part 33 of the Commission's regulations, 18 CFR Part 33 (2003), an application requesting Commission authorization for: (1) The proposed transfer of substantially all of the assets of Multitrade to Dominion Virginia Power, a subsidiary of Dominion Resources, Inc.; and (2) Dominion Virginia Power's acquisition of an approximately 79.6 MW generating facility and its appurtenant transmission facilities located in Pittsylvania County, Virginia resulting from the proposed transaction. The Applicants request Commission action on the Application by September 29, 2004.

Applicants state that copies of the filing were served upon the parties to the transaction, Dominion Virginia Power's wholesale requirements customers, the Virginia State Corporation Commission and the North Carolina Utilities Commission.

Comment Date: 5 p.m. eastern standard time on August 20, 2004.

4. Virginia Electric and Power Company

Commonwealth Atlantic Limited Partnership

Chickahominy River Energy Corp.,

James River Energy Corp.

[Docket No. EC04-140-000]

Take notice that, on July 30, 2004, Virginia Electric and Power Company (Dominion Virginia Power), Commonwealth Atlantic Limited Partnership, (CALP) Chickahominy River Energy Corp. (CREC) and James River Energy Corp. (JREC) (collectively, the Applicants) submitted for filing, pursuant to section 203 of the Federal Power Act and Part 33 of the Commission's regulations, an application requesting Commission authorization for: (1) The proposed transfer of 100% of the ownership interests of JREC and CREC in CALP to Dominion Virginia Power, a subsidiary of Dominion Resources, Inc. (DRI); and (2) Dominion Virginia Power's ownership of an approximately 312 MW peaking facility and its appurtenant transmission facilities located in Chesapeake, Virginia resulting from the proposed acquisition. The Applicants request that the Commission act on the application by September 29, 2004.

Applicants states that copies of the filing were served upon the parties to the transaction, Dominion Virginia Power's wholesale requirements customers, the Virginia State Corporation Commission and the North Carolina Utilities Commission.

Comment Date: 5 p.m. eastern standard time on August 20, 2004.

5. Hartwell Energy Limited Partnership

Dynegy Power Corp

Centennial Power, Inc.

[Docket No. EC04-141-000]

Take notice that on July 30, 2004, Dynegy Power Corp (Dynegy Power) and Centennial Power, Inc. (Centennial) tendered for filing an application pursuant to section 203 of the Federal Power Act, for themselves and on behalf of Hartwell Energy Limited Partnership (Hartwell), seeking authorization to dispose of jurisdictional facilities. Dynegy Power states that through the sale of its capital stock in certain subsidiaries, it will transfer its indirect 1 percent general partnership and indirect 49 percent limited partnership interests in Hartwell to Centennial's wholly-owned subsidiary, Hartwell, LLC.

Comment Date: 5 p.m. eastern standard time on August 20, 2004.

6. East Texas Electric Cooperative, Inc.

[Docket No. EC04-142-000]

Take notice that on July 30, 2004, East Texas Electric Cooperative, Inc. (ETEC) filed an application pursuant to section 203 of the Federal Power Act, 16 U.S.C. 824b, for authorization to purchase jurisdictional facilities associated with a 550 MW coal-fired generating unit.

ETEC seeks authorization to purchase a 9.1percent undivided ownership interest in the jurisdictional facilities associated with Nelson Unit No. 6. ETEC states that it is purchasing the ownership interest from CWL Corp. III, a non-jurisdictional, public benefit, non-profit corporation controlled by the City Water and Light Plant of the City of Jonesboro. ETEC has requested privileged treatment of the Purchase and Sale Agreement submitted as an attachment to the Application.

Comment Date: 5 p.m. eastern standard time on August 20, 2004.

7. Dynegy Midwest Generation, Inc.

Illinois Power Company

[Docket No. EC04-143-000]

Take notice that on July 30, 2004, Dynegy Midwest Generation, Inc. (DMG) and Illinois Power Company (Illinois Power) (collectively, Applicants) filed a joint application under section 203 of the Federal Power Act and Part 33 of the Commission's regulations to request authorization and approval for DMG to transfer and sell to Illinois Power certain transmission and distribution assets and for Illinois Power to sell and transfer to DMG certain generation assets. Applicants state that the assets will be transferred at net book value on the date of the transfer. Applicants further state that the proposed transaction is related to the transfers by Illinois Power of generation assets to DMG in 1999 and 2001.

Comment Date: 5 p.m. eastern standard time on August 20, 2004.

8. Cinergy Services, Inc.

[Docket No. ER04-719-001]

Take notice that on July 29, 2004, the Midwest Independent Transmission System Operator, Inc. (Midwest ISO) submitted a compliance filing pursuant to the Commission's Order issued June 4, 2004 in Docket No. ER04-719-000, 107 FERC ¶ 61,260. Midwest ISO submitted Service Agreement No. 1433 under Midwest ISO FERC Electric Tariff, Second Revised Volume No. 1, an Amended and Restated Interconnection Agreement among Cinergy Services, Inc., acting as agent for and on behalf of PSI Energy, Inc., Allegheny Energy Supply Wheatland Generating Company, LLC, and the Midwest ISO.

Midwest ISO states that copies of the filing were served upon the service list compiled by the Secretary in this proceeding and the parties to the agreement.

Comment Date: 5 p.m. eastern standard time on August 19, 2004.

9. California Independent System Operator Corporation

[Docket No. ER04-793-001]

Take notice that on July 29, 2004 the California Independent System Operator Corporation (ISO) submitted a compliance filing pursuant to the Commission's Order issued June 29, 2004 in Docket No. ER04-793-000 concerning Amendment No. 59 to the ISO Tariff, 107 FERC ¶ 61,329.

The ISO states that it has served copies of this letter, and all attachments, upon all parties on the official service list in this proceeding. In addition, the ISO states that it is posting this transmittal letter and all attachments on the ISO Home Page.

Comment Date: 5 p.m. eastern standard time on August 19, 2004.

10. Wabash Valley Power Association, Inc.

[Docket No. ER04-802-002]

Take notice that on July 29, 2004, Wabash Valley Power Association, Inc. (Wabash Valley), submitted a compliance filing pursuant to the Commission's order issued June 29, 2004 in Docket Nos. ER04-789-000 and ER04-802-000, 107 FERC ¶ 61, 327. The filing consists of Wabash Valley Rate Schedule FERC Nos. 1 and 3.

Comment Date: 5 p.m. eastern standard time on August 19, 2004.

11. Virginia Electric and Power Company

[Docket No. ER04-1056-000]

Take notice that on July 28, 2004, Virginia Electric and Power Company, doing business as Dominion Virginia Power, submitted for filing revised tariff sheets under Virginia Electric and Power Company FERC Electric Tariff, Second Revised Volume No. 5 (OATT) modifying the effective date for Backup Supply Service for Unbundled Retail Transmission Customers under Schedule 10 to its OATT. Dominion Virginia Power requests an effective date of May 25, 2004.

Dominion Virginia Power states that copies of the filing were served upon Dominion Virginia Power's customers under its OATT, the SCC and the North Carolina Utilities Commission.

Comment Date: 5 p.m. eastern standard time on August 18, 2004.

12. PJM Interconnection, L.L.C.

[Docket No. ER04-1057-000]

Take notice that on July 28, 2004, PJM Interconnection, L.L.C. (PJM), submitted for filing an executed second amended interconnection service agreement between PJM and PSEG Power, L.L.C., designated as Second Revised Service Agreement No. 701 under PJM Interconnection, L.L.C. FERC Electric Tariff, Sixth Revised Volume No. 1. PJM requests an effective date of June 29, 2004.

PJM states that copies of this filing were served upon PSEG Power, L.L.C. and the state regulatory commissions within the PJM region.

Comment Date: 5 p.m. eastern standard time on August 18, 2004.

13. PJM Interconnection, L.L.C.

[Docket No. ER04-1058-000]

Take notice that on July 28, 2004, PJM Interconnection, L.L.C. (PJM), submitted for filing Original Service Agreement No. 1051 under PJM Interconnection, L.L.C. FERC Electric Tariff, Sixth Revised Volume No. 1, an executed interim interconnection service agreement among PJM, FPL Energy Marcus Hook, L.P., and PECO Energy Company. PJM requests an effective date of June 28, 2004.

PJM states that copies of this filing were served upon the parties to the agreement and the state regulatory commissions within the PJM region.

Comment Date: 5 p.m. eastern standard time on August 18, 2004.

14. RockGen Energy, LLC

[Docket No. ER04-1059-000]

Take notice that on July 28, 2004, RockGen Energy, LLC (RockGen) submitted for filing RockGen Energy, LLC Rate Schedule No. 3 for reactive power services to American Transmission Company LLC. Applicant requests an effective date of October 1, 2004.

Applicant states that copies of the filing were served upon the American Transmission Company, Midwest Independent System Operator and Public Service Commission of Wisconsin.

Comment Date: 5 p.m. eastern standard time on August 18, 2004.

15. American Electric Power Service Corporation

[Docket No. ER04-1060-000]

Take notice that on July 27, 2004, the American Electric Power Service Corporation (AEPSC) tendered for filing a Notice of Termination of an executed Interconnection and Operation Agreement between Indiana Michigan Power Company and Acadia Bay Energy Company, LLC, designated as First Revised Service Agreement No. 335 under American Electric Power's Open Access Transmission Tariff. AEPSC requests an effective date of November 4, 2003.

AEPSC states that a copy of the filing was served upon Acadia Bay Energy Company, LLC and the Indiana Utility Regulatory Commission and Michigan Public Service Commission.

Comment Date: 5 p.m. eastern standard time on August 17, 2004.

16. New York State Electric & Gas Corporation

[Docket No. ER04-1061-000]

Take notice that on July 29, 2004, New York State Electric & Gas Corporation (NYSEG) submitted for filing Original Service Agreement No. 335 under New York Independent System Operator, Inc. FERC Electric Tariff Original Volume No. 1, an executed Interconnection Agreement between NYSEG and Windfarm Prattsburgh, LLC (WFPB) that sets forth the terms and conditions governing the interconnection between WFPB's generating facility in Steuben and Yates Counties, New York and NYSEG's transmission system.

NYSEG states that copies of the filing were served upon WFPB, the New York State Public Service Commission, and the New York Independent System Operator, Inc.

Comment Date: 5 p.m. eastern standard time on August 19, 2004.

17. Western Systems Power Pool, Inc.

[Docket No. ER04-1062-000]

Take notice that on July 29, 2004, the Western Systems Power Pool, Inc. (WSPP) submitted Second Revised Sheet Nos. 91, 92, 93 and 94 to Western Systems Power Pool Rate Schedule FERC No. 6 to amend the WSPP Agreement to include a revised membership list. WSPP seeks an effective date of July 29, 2004.

WSPP states that copies of this filing will be electronically served upon WSPP members who have supplied e-mail addresses for the Contract Committee and Contacts lists. WSPP further states that this filing also has been posted on the WSPP homepage (http://www.wspp.org) thereby providing notice to all WSPP members.

Comment Date: 5 p.m. eastern standard time on August 19, 2004.

18. PJM Interconnection, L.L.C.

[Docket No. ER04-1063-000]

Take notice that on July 29, 2004, PJM Interconnection, L.L.C. (PJM), submitted for filing an executed interconnection service agreement (ISA) and an executed construction service agreement among PJM, Granger Energy of Morgantown, LLC, and PPL Electric Utilities Corporation designated as Original Service Agreement Nos. 1053 and 1054, respectively, under PJM Interconnection, L.L.C. FERC Electric Tariff, Sixth Revised Volume No. 1. PJM requests a July 13, 2004 effective date for the ISA and a July 14, 2004 effective date for the CSA.

PJM states that copies of this filing were served upon the parties to the agreement and the state regulatory commissions within the PJM region.

Comment Date: 5 p.m. eastern standard time on August 19, 2004.

Standard Paragraph

Any person desiring to intervene or to protest this filing must file in accordance with Rules 211 and 214 of the Commission's Rules of Practice and Procedure (18 CFR 385.211 and 385.214). Protests will be considered by the Commission in determining the appropriate action to be taken but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2046 Filed 9-1-04; 8:45 am]

BILLING CODE 6717-01-P